DEPARTMENT OF LABOR

Office of the Secretary

Job Corps: Preliminary Finding of No Significant Impact (FONSI) for the Proposed Job Corps Center Located on Dunbarton Road, Manchester, NH

AGENCY: Office of the Secretary, Department of Labor.

ACTION: Preliminary Finding of No Significant Impact (FONSI) for the proposed Job Corps Center to be Located on Dunbarton Road, Manchester, NH.

SUMMARY: Pursuant to the Council on Environmental Quality Regulations (40 CFR part 1500-08) implementing procedural provisions of the National Environmental Policy Act (NEPA), the Department of Labor, Office of the Secretary (OSEC) in accordance with 29 CFR 11.11(d), gives notice that an Environmental Assessment (EA) has been prepared for a proposed new Job Corps Center to be located in Manchester, New Hampshire, and that the proposed plan for a new Job Corps Center will have no significant environmental impact. This Preliminary Finding of No Significant Impact (FONSI) will be made available for public review and comment for a period of 30 days.

DATES: Comments must be submitted by February 15, 2008.

ADDRESSES: Any comment(s) are to be submitted to Edward C. Campbell, Realty Officer Department of Labor, 200 Constitution Avenue, NW., Room N-4460, Washington, DC 20210, (202) 693-2834 (this is not a toll-free number).

FOR FURTHER INFORMATION CONTACT: Copies of the EA are available to interested parties by contacting Michael F. O'Malley, Architect, Unit Chief of Facilities, National Office of Job Corps, U.S. Department of Labor, 200 Constitution Avenue, NW., Room N-4460, Washington, DC 20210, (202) 693-3108 (this is not a toll-free number).

SUPPLEMENTARY INFORMATION: This EA summary addresses the proposed construction of a new Job Corps Center in Manchester, New Hampshire. The site for the proposed Job Corps Center consists of approximately 20 acres of undeveloped land, within a 425.10 acre parcel, owned by Manchester Housing and Redevelopment.

The new center will require construction of approximately eight new buildings. The proposed Job Corps Center will provide housing, training, and support services for approximately 300 students. The current facility utilization plan includes new dormitories, a cafeteria building, administration offices, recreation facilities, and classroom facilities.

The construction of the Job Corps Center on this proposed site would be a positive asset to the area in terms of environmental and socioeconomic improvements, and long-term productivity. The proposed Job Corps Center will be a new source of employment opportunity for people in the Manchester metropolitan area. The Job Corps program provides basic education, vocational skills training, work experience, counseling, health care and related support services. The program is designed to graduate students who are ready to participate in the local economy.

The proposed project may have an impact on natural sources located within the proposed site. Five separate wetlands: two vernal pools, one isolated depression, and two seasonal streams are located within the proposed project area. The vernal pools are the highest quality wetlands on the site and may provide wildlife habitat. One vernal pool is located just to the west of the middle of the property and the other is located near the southwest corner of the property. The two seasonal streams are approximately 100′ from the west and east borders of the property. The seasonal streams are too narrow steep and ephemeral to sustain wetland vegetation or wildlife habitat. The isolated depression is too shallow and ephemeral for use by wildlife. Construction will comply with local, state and federal regulations regarding wetlands.

No state or federal threatened or endangered species (proposed or listed) have been identified on the subject property.

The Job Corps Center construction will not affect any existing historic structures, as there are no historic or archeologically sensitive areas on the proposed property parcel.

Air quality and noise levels should not be affected by the proposed development project. Due to the nature of the proposed project, it would not be a significant source of air pollutants or additional noise, except possibly during construction of the facility. All construction activities will be conducted in accordance with applicable noise and air pollution regulations, and all pollution sources will be permitted in accordance with applicable pollution control regulations.

The proposed Job Corps Center is not expected to significantly increase the vehicle traffic in the vicinity.

The proposed project will not have any significant adverse impact on the surrounding water, sewer, and storm water management infrastructure. The proposed project will involve construction of new water, sanitary and storm sewer lines. The closest water main to the proposed site is approximately 1.1 miles from the site down Dunbarton Road. The City sewer line ends at the intersection of Liane Street and Dunbarton Road, approximately 1 mile from the proposed site.

Public Service of New Hampshire will provide the electricity for the site. This is not expected to create any significant impact to the regional utility infrastructure.

The Job Corps Center is not expected to result in a significant increase in vehicular traffic, since many of the Job Corps Center residents will either live at the Job Corps Center or use public transportation. While some Job Corps Center students and staff may use personal vehicles, their number would not result in a significant increase in vehicular traffic in the area. However, the proposed Job Corps Center entrance would be from North 60th Street. North 60th Street is a well-used, two-lane thoroughfare. The Manchester Transit Authority will provide public transportation.

No significant adverse affects to local medical, emergency, fire and police services are anticipated. The primary medical provider located closest to the proposed Job Corps parcel is the Catholic Medical Center, approximately 3.2 miles from the proposed Job Corps Center. Security services at the Job Corps will be provided by the center's security staff. Law enforcement services are provided by the City of Manchester Police Department—located approximately 3.8 miles from the proposed project site. The City of Manchester Fire Department will provide fire protection. Manchester Fire Department Station #6, which operates 24 hours a day, is located approximately 3.1 miles from the site.

The proposed project will not have a significant adverse sociological affect on the surrounding community. Similarly, the proposed project will not have a significant adverse effect on demographic and socioeconomic characteristics of the area.

The alternatives considered in the preparation of this FONSI were as follows: (1) No Action; and (2) Continue Project as Proposed. The No Action alternative was not selected. The U.S. Department of Labor's goal of improving the Job Corps Program by improving the learning environment at Job Corps Centers would not be met under this alternative. Due to the suitability of the proposed site for establishment of a new Job Corps Center, and the absence of any identified significant adverse environmental impacts from locating a Job Corps Center on the subject property, the “Continue Project as Proposed” alternative was selected.

Based on the information gathered during the preparation of the EA, no environmental liabilities, current or historical, were found to exist on the proposed Job Corps Center site. The construction of the Job Corps Center at Dunbarton Road, Manchester, New Hampshire will not create any significant adverse impacts on the environment.

Dated: January 28, 2008.
Esther R. Johnson,
National Director of Job Corps.

[FR Doc. E8-1870 Filed 1-31-08; 8:45 am]

BILLING CODE 4510-23-P